CONSUMER PRODUCT SAFETY COMMISSION

Notification of Request for Extension of Approval of Information Collection Activity—Notification Requirements for Sound Levels of Toy Caps

AGENCY: Consumer Product Safety Commission.

ACTION: Notice.

SUMMARY: In the July 3, 2008 Federal Register (73 FR 38186), the Consumer Product Safety Commission (CPSC or Commission) published a notice in accordance with provisions of the Paperwork Reduction Act of 1995 (44 U.S.C. Chapter 35) (PRA), to announce the agency's intention to seek extension of its PRA approval of information collection requirements regarding the sound levels of toy caps pursuant to 16 CFR 1500.18(a)(5). The Commission now announces that it has submitted to the Office of Management and Budget a request for extension of approval of that collection of information.

The Commission received no comments. The CPSC will use the information it obtains to monitor industry efforts to reduce the sound levels of toy caps, and to ascertain which firms are currently manufacturing or importing toy caps with peak sound levels between 138 and 158 decibels.

Additional Information About the Request for Extension of Approval of Information Collection Activity

Title of information collection: Notification Requirements for Sound Levels of Toy Caps.

Type of request: Extension of approval.

Frequency of collection: Reports will be collected 4 times per year.

General description of respondents: Manufacturers or importers of toy caps.

Estimated number of respondents: 10 per year.

Estimated average number of responses per respondent: 4 per year.

Estimated number of responses for all respondents: 40 per year.

Estimated number of hours per response: 1 hour per response.

Estimated number of hours for all respondents: 40 hours per year.

Estimated annual cost of collection to all respondents: $1,002 per year.

Estimated total annual cost of the information collection requirements to the Federal Government: $10,321 per year.

Comments: Comments on this request for extension of approval of an information collection activity should be submitted by October 24, 2008 to (1) Office of Information and Regulatory Affairs, Attn: OMB Desk Officer for CPSC, Office of Management and Budget, Washington, DC 20503; telephone: (202) 395-7340, and (2) e-mailed to the Office of the Secretary at cpsc-os@cpsc.gov. Comments may also be sent by facsimile to (301) 504-0127, or by mail to the Office of the Secretary, Consumer Product Safety Commission, 4330 East West Highway, Bethesda, Maryland 20814.

FOR FURTHER INFORMATION CONTACT: Copies of this request for approval of an information collection activity are available from Linda Glatz, Division of Policy and Planning, Office of Information Technology and Technology Services, Consumer Product Safety Commission, 4330 East West Highway, Bethesda, MD 20814; telephone: (301) 504-7671 or by e-mail to lglatz@cpsc.gov.

Dated: September 18, 2008.
Todd Stevenson,
Secretary, Consumer Product Safety Commission.

[FR Doc. E8-22474 Filed 9-23-08; 8:45 am]

BILLING CODE 6355-01-P